DEPARTMENT OF AGRICULTURE

Forest Service

Shasta County Resource Advisory Committee

AGENCY: Forest Service, USDA.

ACTION: Notice of meeting cancellation.

SUMMARY: The Shasta County Resource Advisory Committee was scheduled to meet Wednesday, November 30, 2011 in Redding, California. The committee is authorized under the Secure Rural Schools and Community Self-Determination Act (Pub. L. 110-343) (the Act) and operates in compliance with the Federal Advisory Committee Act. The committee's charter expired in October 2011 and its renewal is under review by the Secretary of Agriculture. In compliance with the Federal Advisory Committee Act, the committee will not be meeting until the charter is renewed.

DATES: The cancelled meeting was scheduled for on 30, November, 2011, 8:30 a.m.

ADDRESSES: The canceled meeting would have been held at the USDA Service Center, 3644 Avtech Parkway, Redding, California 96002. Written comments concerning this cancellation may be submitted to the Designated Federal Officer.

All comments, including names and addresses when provided, are placed in the record and are available for public inspection and copying. The public may inspect comments received at 3644 Avtech Parkway, Redding, CA 96002. Please call ahead to (530) 226-2500 to facilitate entry into the building to view comments.

FOR FURTHER INFORMATION CONTACT: Donna Harmon, Designated Federal Officer, Shasta-Trinity National Forest, 3644 Avtech Parkway, Redding, CA 96002. Telephone: (530) 226-2335 or email at: dharmon@fs.fed.us.

Individuals who use telecommunication devices for the deaf (TDD) may call the Federal Information Relay Service (FIRS) at 1-(800) 877-8339 between 8 a.m. and 8 p.m., Eastern Standard Time, Monday through Friday.

Dated: October 27, 2011.
Donna Harmon,
Designated Federal Officer, Shasta-Trinity National Forest RAC.

[FR Doc. 2011-28696 Filed 11-4-11; 8:45 am]

BILLING CODE P